DEPARTMENT OF DEFENSE

Department of the Army

Notice of Intent To Prepare an Environmental Impact Statement for Mission and Master Planning Actions at Fort Stewart/Hunter Army Airfield, GA

AGENCY: Department of the Army, DoD.

ACTION: Notice of intent.

SUMMARY: The United States Army announces its intent to proceed with an Environmental Impact Statement (EIS) to address known and reasonably anticipated changes in missions and operations at Fort Stewart/Hunter Army Airfield. This is necessary to analyze the cumulative socioeconomic and environmental impacts associated with a number of recent personnel stationing actions and changes in how the Army trains and deploys our nation's Soldiers. When the EIS is completed, it will also be used by Army decision makers as an important resource to consult when making future decisions about future land uses and operations at Fort Stewart/Hunter Army Airfield.

FOR FURTHER INFORMATION CONTACT: Ms. Melissa Kendrick, National Environmental Policy Act Specialist, Directorate of Public Works, Prevention and Compliance Branch, Environmental Division, 1550 Frank Cochran Drive, Building 1137-A, Fort Stewart, Georgia 31314-4928. Written comments may be mailed to that address or e-mailed to MeIissa.B.Kendrickus.army.mil. For media queries please contact Fort Stewart Public Affairs Office at (912) 435-9874 during normal business hours (9 a.m. to 5 p.m.).

SUPPLEMENTARY INFORMATION: Fort Stewart/Hunter Army Airfield, located in southeastern Georgia, is the largest Army installation east of the Mississippi River covering approximately 280,000 acres. Updates to the installation's mission and master planning process will allow the installation to continue to train Soldiers, protect valuable environmental and cultural resources, and minimize negative impacts to neighboring communities. The Army's intent in moving forward with this EIS is to provide decision makers with a comprehensive planning tool, a public information source, and a reference for mitigation.

The proposed action involves constructing ranges and facilities to support military units assigned to Fort Stewart, accommodating current and future training requirements, and the updating of operational and management plans for training lands and infrastructure. The EIS will address the effects of the proposed activities beginning in FY11 and extending through FY14. Construction projects include ranges, cantonment expansion, Georgia Highway 144 by-pass, widening of Highway 144, and other transportation improvements on Fort Stewart. The EIS will also include an assessment of Fort Stewart's alternative energy potential and will evaluate alternative energy projects which may be implemented at Fort Stewart in the future.

Alternatives may consist of different locations on the installation for specific projects or modifications to those projects. Range projects will be located on areas currently dedicated to military training. The size of the cantonment area may increase. Alternatives will be developed during preparation of the Draft EIS and as a result of public input and environmental analysis.

Several areas present the potential for significant impacts. Fort Stewart/Hunter Army Airfield land provides known or potential habitat for protected plant and wildlife species. Fort Stewart/Hunter Army Airfield provides habitat for 40 percent of the protected red-cockaded woodpecker in Georgia and intensively manages installation land to protect their habitat. Approximately 60 percent of the installation has been surveyed for cultural resources. As a result of these surveys, numerous sites have been recommended as eligible or potentially eligible for the National Register of Historic Places. Another issue of concern is that approximately 30 percent of the installation is potentially wetlands.

The EIS will analyze the potential impacts of the proposed action and the alternatives. Impacts analyzed will include a wide range of environmental resource areas including, but not limited to, air quality, traffic, noise, water resources, biological resources, cultural resources, socioeconomic, utilities, land use, solid and hazardous materials/waste, and cumulative environmental effects. Additional resources and conditions may be identified as a result of the scoping process initiated by this Notice of Intent (NOI).

The public will be invited to actively participate in the EIS process, which includes three scoping meetings to provide input on the proposed actions and alternatives. The public will also be invited to review and comment on the Draft EIS. Dates and times for these public involvement opportunities will be announced in the local news media. Comments from the public will be considered before any decision is made regarding implementing the proposed action at Fort Stewart/Hunter Army Airfield.

The public scoping period will last for 30 days following the publication of this NOI in the Federal Register. Comments from the public will be considered before any decision is made regarding implementing the proposed action.

Dated: March 20, 2009.
Addison D. Davis, IV,
Deputy Assistant Secretary of the Army (Environment, Safety and Occupational Health).

[FR Doc. E9-7320 Filed 4-2-09; 8:45 am]

BILLING CODE 3710-08-M